CONSUMER PRODUCT SAFETY COMMISSION

CPSC Webinar on Improvements to SaferProducts.gov

AGENCY: Consumer Product Safety Commission.

ACTION: Notice of meeting.

SUMMARY: The Consumer Product Safety Commission (Commission or CPSC) will hold a public webinar to receive information from interested parties about changes to the CPSC's Publicly Available Consumer Product Safety Information Database, www.SaferProducts.gov, that are in development to improve the website's usefulness and navigability. All attendees should pre-register for the Webinar. After registering, you will receive a confirmation email containing information about joining the webinar.

DATES: The webinar will begin at 1:00 p.m. to 3:00 p.m. Eastern Standard Time (EST) on July 1, 2020.

ADDRESSES: To pre-register for the Webinar, please visit https://attendee.gotowebinar.com/register/3647078277660038412 and fill in the information.

FOR FURTHER INFORMATION CONTACT: Alberta E. Mills, Division of the Secretariat, U.S. Consumer Product Safety Commission, 4330 East-West Highway, Bethesda, MD 20814; email: cpsc-os@cpsc.gov; telephone: (301) 504-7479.

SUPPLEMENTARY INFORMATION:

I. Background

Section 212 of the Consumer Product Safety Improvement Act of 2008 (CPSIA) added section 6A to the Consumer Product Safety Act (CPSA), which requires the CPSC to establish and maintain a publicly available, searchable database on the safety of consumer products and other products or substances regulated by the CPSC. 15 U.S.C. 2055a(a). The CPSIA includes specific content, procedural, and search requirements for the database. Id. at 2055a(b) and (c). In 2010, the Commission issued regulations regarding the database in 16 CFR part 1102, and in 2011, Congress added additional requirements to the database provisions, which were adopted in part 1102. 75 FR 76832 (Dec. 9, 2010); Sec. 7, Public Law 112-28, 125 Stat. 273 (amending 15 U.S.C. 2055a(c)).

To comply with these requirements, CPSC created the website, www.SaferProducts.gov. The website allows consumers and others to submit reports of harm relating to the use of consumer products, and other products or substances the Commission regulates; allows businesses to comment on such reports; and allows users to search the database for product recalls and reports of harm that are published on www.SaferProducts.gov. On March 6, 2019, the CPSC held a public hearing to receive information from interested parties about possible changes to the database to improve the website's usefulness and ease of use. Based, in part, on input from the public hearing, the CPSC will hold a public webinar to show the changes to the website that are in development. These changes seek to improve usability and navigability on the website; make the website more mobile friendly with other devices, including smartphones and tablets; and improve cross-browser compatibility. Participants who register for the webinar will have an opportunity to see these changes and provide feedback to the CPSC through a moderated discussion.

II. The Webinar

A. Topics for Discussion

The Commission would like to hear from webinar participants on the utility, usability, and function of the improvements to the www.saferproducts.gov website presented during the webinar. The goal of the webinar is to hear from the public its views on these changes and the impact the changes will have on the website's utility and usability, among other issues.

B. How To Attend and/or Provide Comments

If you would like to participate in the webinar, please register at https://attendee.gotowebinar.com/register/3647078277660038412. The webinar will be held online on July 1, 2020, from 1:00 p.m. to 3:00 p.m. EST. Online participant viewers will be able to interact with the presenters through the webinar software. The webinar software allows for communicating with the presenters orally and in written format. CPSC staff will take questions and comments during the webinar, as time permits.

Alberta A. Mills,
Secretary, U.S. Consumer Product Safety Commission.

[FR Doc. 2020-13100 Filed 6-17-20; 8:45 am]

BILLING CODE 6355-01-P